SMALL BUSINESS ADMINISTRATION

[Disaster Declaration # 10866 and # 10867]

Kansas Disaster Number KS-00018

AGENCY: U.S. Small Business Administration.

ACTION: Amendment 2.

SUMMARY: This is an amendment of the Presidential declaration of a major disaster for the State of Kansas (FEMA-1699-DR), dated 5/6/2007.

Incident: Severe Storms, Tornadoes, and Flooding

Incident Period: 5/4/2007 and continuing.

DATES: Effective Date: 5/18/2007.

Physical Loan Application Deadline Date: 7/5/2007.

EIDL Loan Application Deadline Date: 2/6/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Kansas, dated 5/6/2007 is hereby amended to include the following areas as adversely affected by the disaster:

Primary Counties:

Barton, Osborne, Ottawa, Phillips.

Contiguous Counties:

Kansas: Clay, Cloud, Dickinson, Ellis, Ellsworth, Graham, Jewell, Lincoln, Mitchell, Norton, Rooks, Rush, Russell, Saline, Smith.

Nebraska: Franklin, Harlan.

All other information in the original declaration remains unchanged.

(Catalog of Federal Domestic Assistance Numbers 59002 and 59008)

Herbert L. Mitchell,
Associate Administrator for Disaster Assistance.

[FR Doc. E7-10384 Filed 5-30-07; 8:45 am]

BILLING CODE 8025-01-P